DEPARTMENT OF TRANSPORTATION

Federal Aviation Administration

14 CFR Part 39

[Docket No. FAA-2014-0041; Directorate Identifier 2013-CE-053-AD]

RIN 2120-AA64

Airworthiness Directives; Ballonbau Wörner GmbH Balloons

AGENCY: Federal Aviation Administration (FAA), Department of Transportation (DOT).

ACTION: Notice of proposed rulemaking (NPRM).

SUMMARY: We propose to adopt a new airworthiness directive (AD) for Ballonbau Wörner GmbH Models NL-280/STU, NL-380/STU, NL-510/STU, NL-640/STU, NL-840/STU, and NL-1000/STU balloons. This proposed AD results from mandatory continuing airworthiness information (MCAI) originated by an aviation authority of another country to identify and correct an unsafe condition on an aviation product. The MCAI describes the unsafe condition as current inspection intervals are no longer adequate to ensure timely detection of deterioration or damage. We are issuing this proposed AD to require actions to address the unsafe condition on these products.

DATES: We must receive comments on this proposed AD by March 17, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Ballonbau Wörner GmbH, Zirbelstrasse 57c, D-86154 Augsburg, Germany; telephone: +49 821 4504060; fax: +49 821 419641; Internet: www.ballonbau.de. You may review this referenced service information at the FAA, Small Airplane Directorate, 901 Locust, Kansas City, Missouri 64106. For information on the availability of this material at the FAA, call (816) 329-4148.

Examining the AD Docket

You may examine the AD docket on the Internet at http://www.regulations.gov by searching for and locating it in Docket No. FAA-2014-0041; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Karl Schletzbaum, Aerospace Engineer, FAA, Small Airplane Directorate, 901 Locust, Room 301, Kansas City, Missouri 64106; telephone: (816) 329-4123; fax: (816) 329-4090; email: karl.schletzbaum@faa.gov.

SUPPLEMENTARY INFORMATION:

Comments Invited

We invite you to send any written relevant data, views, or arguments about this proposed AD. Send your comments to an address listed under the ADDRESSES section. Include “Docket No. FAA-2014-0041; Directorate Identifier 2013-CE-053-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

The European Aviation Safety Agency (EASA), which is the Technical Agent for the Member States of the European Community, has issued AD No.: 2013-0293R1, dated December 17, 2013 (referred to after this as “the MCAI”), to correct an unsafe condition for Ballonbau Wörner GmbH Models NL-280/STU, NL-380/STU, NL-510/STU, NL-640/STU, NL-840/STU, and NL-1000/STU balloons. The MCAI states:

The results of an analysis of NL-STU maintenance data revealed that the current inspection intervals are no longer adequate to ensure timely detection of deterioration or damage, which could affected the structural integrity of the balloon.

This condition, if not detected and corrected, could lead to failure of balloon components or envelope, possibly resulting in loss of the balloon.

To address this potential unsafe condition, Ballonbau Wörner developed new, more detailed and descriptive Instructions for Continued Airworthiness (at the same time separated from the Flight Manual) and issued Technische Mitteilung/Technical Note EASA.BA.009-6 to inform all operators.

For the reasons described above, EASA issued AD 2013-0293 to require compliance with the updated Instructions for Continued Airworthiness. This AD is revised to extend the compliance time for the initial porosity test, for balloons which have already exceeded the relevant threshold.

You may examine the MCAI on the Internet at http://www.regulations.gov by searching for and locating it in Docket No. FAA-2014-0041.

Relevant Service Information

Ballonbau Wörner GmbH has issued Technische Mitteilung (English translation: Technical Note) Ballonbau Wörner GmbH EASA.BA.009-6, dated November 7, 2013; and Ballonbau Wörner GmbH Instructions for Continued Airworthiness, Gas Balloon Model NL-STU, Issue 1, dated November 2013. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD will affect 6 products of U.S. registry. The scope of the proposed inspections may vary depending on the condition of the balloon. We have no way of knowing how extensive an inspection may be necessary for each balloon. The scope of damage found in the proposed inspections could vary significantly from balloon to balloon. We have no way of determining how much damage may be found on each balloon or the cost to repair damaged parts on each balloon or the number of balloons that may require repair.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Ballonbau Worner GmbH: Docket No. FAA-2014-0041; Directorate Identifier 2013-CE-053-AD.

(a) Comments Due Date

We must receive comments by March 17, 2014.

(b) Affected ADs

None.

(c) Applicability

This AD applies to Ballonbau Wörner GmbH Model NL-280/STU, NL-380/STU, NL-510/STU, NL-640/STU, NL-840/STU, and NL-1000/STU balloons, all serial numbers, certificated in any category.

(d) Subject

Air Transport Association of America (ATA) Code 5: Time Limits.

(e) Reason

This AD was prompted by mandatory continuing airworthiness information (MCAI) originated by an aviation authority of another country to identify and correct an unsafe condition on an aviation product. The MCAI describes the unsafe condition as current inspection intervals are no longer adequate to ensure timely detection of deterioration or damage. If this condition is uncorrected, it could result in reduced structural integrity of the balloon.

(f) Actions and Compliance

Unless already done, do the actions in paragraphs (f)(1) through (f)(4) of this AD:

(1) Before further flight after the effective date of this AD, complete all inspections and maintenance tasks described in the Chapter 5, Annual Inspection, in the Ballonbau Wörner GmbH Instructions for Continued Airworthiness, Gas Balloon Model NL-STU, Issue 1, dated November 2013.

(2) If any discrepancies are found during the inspection required in paragraph (f)(1) of this AD, before further flight, repair as applicable following Chapter 6, Standard Repair Procedures, in the Ballonbau Wörner GmbH Instructions for Continued Airworthiness, Gas Balloon Model NL-STU, Issue 1, dated November 2013.

(3) If on the effective date of this AD, a balloon has already exceeded the threshold compliance time for the porosity test as defined in Sections 5.1.1.4, 5.1.2.4 and 5.1.3.4 of Chapter 5 in Ballonbau Wörner GmbH Instructions for Continued Airworthiness, Gas Balloon Model NL-STU, Issue 1, dated November 2013, within 3 months after the effective date of this AD, conduct the porosity test following Sections 5.1.1.4, 5.1.2.4 and 5.1.3.4 of Chapter 5 in Ballonbau Wörner GmbH Instructions for Continued Airworthiness, Gas Balloon Model NL-STU, Issue 1, dated November 2013.

(4) After the effective date of this AD, do all inspections and necessary repairs following Technische Mitteilung (English translation: Technical Note) Ballonbau Wörner GmbH EASA.BA.009-6, dated November 7, 2013; and Ballonbau Wörner GmbH Instructions for Continued Airworthiness, Gas Balloon Model NL-STU, Issue 1, dated November 2013.

Note 1 to paragraph (f) of this AD: Pilots may only accomplish preventative maintenance limited to those items identified in 14 CFR Part 43, Appendix A.

(g) Other FAA AD Provisions

The following provisions also apply to this AD:

(1) Alternative Methods of Compliance (AMOCs): The Manager, Standards Office, FAA, has the authority to approve AMOCs for this AD, if requested using the procedures found in 14 CFR 39.19. Send information to ATTN: Karl Schletzbaum, Aerospace Engineer, FAA, Small Airplane Directorate, 901 Locust, Room 301, Kansas City, Missouri 64106; telephone: (816) 329-4123; fax: (816) 329-4090; email: karl.schletzbaum@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No.: 2013-0293R1, dated December 17, 2013, for related information. You may examine the MCAI on the Internet at http://www.regulations.gov by searching for and locating it in Docket No. FAA-2014-0041. For service information related to this AD, contact Ballonbau Wörner GmbH, Zirbelstrasse 57c, D-86154 Augsburg, Germany; telephone: +49 821 4504060; fax: +49 821 419641; Internet: www.ballonbau.de. You may review this referenced service information at the FAA, Small Airplane Directorate, 901 Locust, Kansas City, Missouri 64106. For information on the availability of this material at the FAA, call (816) 329-4148.

Issued in Kansas City, Missouri, on January 23, 2014.
Earl Lawrence,
Manager, Small Airplane Directorate, Aircraft Certification Service.

[FR Doc. 2014-01950 Filed 1-30-14; 8:45 am]

BILLING CODE 4910-13-P